SECURITIES AND EXCHANGE COMMISSION

Sunshine Act Meeting

Notice is hereby given, pursuant to the provisions of the Government in the Sunshine Act, Pub. L. 94-409, that the Securities and Exchange Commission Investor Advisory Committee will hold a meeting on Thursday, June 22, 2017, in Multi-Purpose Room LL-006 at the Commission's headquarters, 100 F Street NE., Washington, DC 20549. The meeting will begin at 9:30 a.m. (ET) and will be open to the public. Seating will be on a first-come, first-served basis. Doors will open at 9:00 a.m. Visitors will be subject to security checks. The meeting will be webcast on the Commission's Web site at www.sec.gov.

On May 25, 2017, the Commission issued notice of the Committee meeting (Release No. 33-10366), indicating that the meeting is open to the public (except during that portion of the meeting reserved for an administrative work session during lunch), and inviting the public to submit written comments to the Committee. This Sunshine Act notice is being issued because a quorum of the Commission may attend the meeting.

The agenda for the meeting includes: Remarks from Commissioners; nominations for open officer positions; a discussion regarding capital formation, smaller companies, and the declining number of initial public offerings; an announcement of election results for open officer positions on the Investor Advisory Committee; an overview of certain provisions of the Financial CHOICE Act of 2017 relating to the SEC; and a nonpublic administrative work session during lunch.

For further information, please contact Brent J. Fields from the Office of the Secretary at (202) 551-5400.

Dated: June 15, 2017.
Brent J. Fields,
Secretary.

[FR Doc. 2017-12897 Filed 6-16-17; 11:15 am]

BILLING CODE 8011-01-P